GOVERNMENT ACCOUNTABILITY OFFICE

Vacancy on Board of Governors of the Patient-Centered Outcomes Research Institute (PCORI)

AGENCY: Government Accountability Office (GAO).

ACTION: Notice on letters of nomination.

SUMMARY: The Patient Protection and Affordable Care Act gave the Comptroller General of the United States responsibility for appointing 19 members to the Board of Governors the Patient-Centered Outcomes Research Institute and for filling vacancies that may occur. Board members must meet the qualifications listed in Section 6301 of the Act, including one member representing quality improvement or independent health services researchers. Due to a vacancy on the board in this category, I am announcing the following: letters of nomination and resumes should be submitted by August 15, 2014 to ensure adequate opportunity for review and consideration of nominees prior to appointment. Letters of nomination and resumes can be sent to either the email or mailing address listed below.

ADDRESSES: Nominations can be submitted by either of the following:

Email: PCORI@gao.gov.

Mail: U.S. GAO, Attn: PCORI Appointments, 441 G Street NW., Washington, DC 20548.

For More Information Contact: GAO: Office of Public Affairs, (202) 512-4800.

Authority: Sec. 6301, Pub. L. 111-148.

Gene L. Dodaro,
Comptroller General of the United States.

[FR Doc. 2014-17238 Filed 7-22-14; 8:45 am]

BILLING CODE 1610-02-M